DEPARTMENT OF JUSTICE

Notice of Lodging of Consent Decree Under the Oil Pollution Act

Notice is hereby given that on November 25, 2008, a proposed Consent Decree (“Decree”) in United States v. f/v North Wind, Inc., Civil Action No. 1:06-cv-00272-DAE-BMK, was lodged with the United States District Court for the District of Hawaii.

The civil action relates to the July 1, 2005 incident when the M/V Casitas, a 145-foot motor vessel owned and operated by f/v North Wind, Inc., ran aground on the reef near North Island at Pearl and Hermes Atoll, a part of the Hawaiian Islands National Wildlife Refuge, and which is also within the Papahanaumokuakea Marine National Monument. In this action the United States and State of Hawaii seek to obtain damages for injury to natural resources under the Oil Pollution Act (OPA).

The proposed Decree would require North Wind to pay $2,817,626.48 for damages, in exchange for a covenant not to sue from the United States and Hawaii for damages under OPA, the Comprehensive Environmental Response, Compensation, and Liability Act, or state law.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should reference United States v. f/v North Wind Inc., Civil Action No. 1:06-cv-00272-DAE-BMK, and DOJ Ref. No. 90-5-1-1-09389.

The Decree may be examined at the Office of the Civil Division, Torts Branch, at West Coast Office, U.S. Department of Justice, 7-5395 Federal Bldg., Box 36028, 450 Golden Gate Avenue, San Francisco, California 94102-3463. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) for a copy of the consent decree, payable to the U.S. Treasury or, if by e-mail or fax, forward a check in that amount to the Consent Decree Library at the stated address.

Henry Friedman,
Assistant Chief, Environmental Enforcement Section, Environment and Natural Resources Division.

[FR Doc. E8-28763 Filed 12-4-08; 8:45 am]

BILLING CODE 4410-CW-P